FEDERAL ELECTION COMMISSION

11 CFR Part 104

Reports by Political Committees and Other Persons (52 U.S.C. 30104)

CFR Correction

This rule is being published by the Office of the Federal Register to correct an editorial or technical error that appeared in the most recent annual revision of the Code of Federal Regulations.

In Title 11 of the Code of Federal Regulations, revised as of January 1, 2022, in part 104, make the following amendments:

1. In § 104.3:

a. Revise paragraphs (a)(3)(vii)(B) and (C) and remove paragraph (D).

b. Revise paragraph (b)(3)(vii)(B).

c. Redesignate paragraph (b)(3)(vii)(C) as paragraph (b)(3)(vii)(D) and revise newly redesignated paragraph (b)(3)(vii)(D).

d. Add new paragraph (b)(3)(vii)(C).

The revisions and additions read as follows:

§ 104.3 Contents of Reports (52 U.S.C. 30104(b), 30114).

* * * * *

(a) * * *

(3) * * *

(vii) * * *

(B) Loans made, guaranteed, or endorsed by a candidate to his or her authorized committee including loans derived from a bank loan to the candidate or from an advance on a candidate's brokerage account, credit card, home equity line of credit, or other lines of credit described in 11 CFR 100.83 and 100.143; and

(C) Total loans;

* * * * *

(b) * * *

(3) * * *

(vii) * * *

(B) For each independent expenditure reported, the committee must also provide a statement which indicates whether such independent expenditure is in support of, or in opposition to a particular candidate, as well as the name of the candidate and the office sought by such candidate (including State and Congressional district, when applicable), and a certification, under penalty of perjury, as to whether such independent expenditure is made in cooperation, consultation or concert with, or at the request or suggestion of, any candidate or authorized committee or agent of such committee; and

(C) For an independent expenditure that is made in support of or opposition to a presidential primary candidate and is publicly distributed or otherwise publicly disseminated in six or more states but does not refer to any particular state, the political committee must report the independent expenditure as a single expenditure—i.e., without allocating it among states—and must indicate the state with the next upcoming presidential primary among those states where the independent expenditure is distributed, as specified in § 104.4(f)(2). The political committee must use memo text to indicate the states in which the communication is distributed.

(D) The information required by paragraphs (b)(3)(vii)(A) through (C) of this section shall be reported on Schedule E as part of a report covering the reporting period in which the aggregate disbursements for any independent expenditure to any person exceed $200 per calendar year. Schedule E shall also include the total of all such expenditures of $200 or less made during the reporting period.

* * * * *

[FR Doc. 2022-27819 Filed 12-20-22; 8:45 am]

BILLING CODE 0099-10-P